SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: January 1-31, 2018.

ADDRESSES: Susquehanna River Basin Commission, 4423 North Front Street, Harrisburg, PA 17110-1788.

FOR FURTHER INFORMATION CONTACT: Jason E. Oyler, General Counsel, 717-238-0423, ext. 1312, joyler@srbc.net. Regular mail inquiries may be sent to the above address.

SUPPLEMENTARY INFORMATION: This notice lists the projects, described below, receiving approval for the consumptive use of water pursuant to the Commission's approval by rule process set forth in 18 CFR 806.22(e) and § 806.22 (f) for the time period specified above:

Approvals By Rule Issued Under 18 CFR 806.22(f):

1. Cabot Oil & Gas Corporation, LLC, Pad ID: McLeanD P1, ABR-201211009.R1, Lathrop and Lenox Townships, Susquehanna County, Pa.; Consumptive Use of Up to 5.0000 mgd; Approval Date: January 9, 2018.

2. Cabot Oil & Gas Corporation, LLC, Pad ID: HordisC P1, ABR-201211016.R1, Lathrop Township, Susquehanna County, Pa.; Consumptive Use of Up to 5.0000 mgd; Approval Date: January 9, 2018.

3. Cabot Oil & Gas Corporation, LLC, Pad ID: LoffredoJ P1, ABR-201211017.R1, Nicholson Township, Wyoming County, Pa.; Consumptive Use of Up to 5.0000 mgd; Approval Date: January 9, 2018.

4. Cabot Oil & Gas Corporation, LLC, Pad ID: TeddickM P3, ABR-201212006.R1, Brooklyn Township, Susquehanna County, Pa.; Consumptive Use of Up to 5.0000 mgd; Approval Date: January 9, 2018.

5. Cabot Oil & Gas Corporation, LLC, Pad ID: ZickW P1, ABR-201212008.R1, Lenox Township, Susquehanna County, Pa.; Consumptive Use of Up to 5.0000 mgd; Approval Date: January 9, 2018.

6. Cabot Oil & Gas Corporation, LLC, Pad ID: KropaT P1, ABR-201301017.R1, Springville Township, Susquehanna County, Pa.; Consumptive Use of Up to 5.0000 mgd; Approval Date: January 9, 2018.

7. Chief Oil & Gas, LLC, Pad ID: Spencer Drilling Pad, ABR-201306010.R1, Lenox Township, Susquehanna County, Pa.; Consumptive Use of Up to 2.0000 mgd; Approval Date: January 9, 2018.

8. SWN Production Company, LLC, Pad ID: Swisher (Pad R), ABR-201212012.R1, Stevens Township, Bradford County, Pa.; Consumptive Use of Up to 4.9990 mgd; Approval Date: January 9, 2018.

9. Chesapeake Appalachia, LLC, Pad ID: Porter, ABR-201306001.R1, North Branch Township, Wyoming County, Pa.; Consumptive Use of Up to 7.5000 mgd; Approval Date: January 17, 2018.

10. Chesapeake Appalachia, LLC, Pad ID: Tinna, ABR-201306002.R1, Windham and Mehoopany Townships, Wyoming County, Pa.; Consumptive Use of Up to 7.5000 mgd; Approval Date: January 17, 2018.

11. Chesapeake Appalachia, LLC, Pad ID: Shamrock, ABR-201306003.R1, Windham Township, Wyoming County, Pa.; Consumptive Use of Up to 7.5000 mgd; Approval Date: January 17, 2018.

12. Chesapeake Appalachia, LLC, Pad ID: Brewer, ABR-201306007.R1, Meshoppen and Washington Townships, Wyoming County, Pa.; Consumptive Use of Up to 7.5000 mgd; Approval Date: January 17, 2018.

13. Chief Oil & Gas, LLC, Pad ID: SGL 12 N WEST DRILLING PAD, ABR-201801001, Leroy Township, Bradford County, Pa.; Consumptive Use of Up to 2.5000 mgd; Approval Date: January 22, 2018.

Authority: Pub. L. 91-575, 84 Stat. 1509 et seq., 18 CFR parts 806, 807, and 808.

Dated: March 16, 2018.
Stephanie L. Richardson,
Secretary to the Commission.

[FR Doc. 2018-05757 Filed 3-21-18; 8:45 am]

BILLING CODE 7040-01-P